DEPARTMENT OF TRANSPORTATION

Coast Guard

33 CFR Part 165

[CCGD08-01-036]

RIN 2115-AA97

Security Zone; DOD Barge Flotilla, Cumberland City, TN to Alexandria, LA

AGENCY: Coast Guard, DOT.

ACTION: Temporary final rule.

SUMMARY: The Coast Guard is establishing a temporary security zone around a barge flotilla carrying military equipment on the waters of the Cumberland River, the Ohio River, the Lower Mississippi River, and the Red River. The United States Army is shipping military equipment on board a barge flotilla, requiring a 100-yard security perimeter commencing in Cumberland City, TN on and securing upon offloading of cargo at Alexandria, LA. This zone is needed to safeguard the shipment from sabotage or other subversive acts in light of recent terrorist activity in the United States. Navigation within this zone will be prohibited unless specifically authorized by the Eighth Coast Guard District Commander's on-scene representative.

DATES: This rule is effective from 6 p.m. (CDT) September 20, 2001 until 11:59 p.m. (CDT) on September 30, 2001.

ADDRESSES: Comments and material received from the public, as well as documents indicated in this preamble as being available in the docket, are part of docket CGD08-01-036 and are available for inspection or copying at Commander Eighth Coast Guard District (m), Hale Boggs Federal Bldg., 501 Magazine Street, New Orleans, LA 70130, between 7:30 a.m. and 4 p.m., Monday through Friday, except Federal holidays.

FOR FURTHER INFORMATION CONTACT: LT Karrie C. Trebbe, Eighth Coast Guard District Marine Safety Division, Hale Boggs Federal Bldg., 501 Magazine Street, New Orleans LA 70130, 504-589-6271.

SUPPLEMENTARY INFORMATION:

Regulatory Information

We did not publish a notice of proposed rulemaking (NPRM) for this regulation. Under 5 U.S.C. 553(b)(B), the Coast Guard finds that good cause exists for not publishing a NPRM. Publishing an NPRM and delaying its effective date would be contrary to public interest since immediate action is needed to protect military assets.

Under 5 U.S.C. 553(d)(3), the Coast Guard finds that good cause exists for making this rule effective less than 30 days after publication in the Federal Register. Due to security reasons and complex planning and coordination requirements, the Coast Guard was not able to obtain details of the event thirty days prior to its occurrence.

Background and Purpose

The Coast Guard is establishing a security zone with a 100-yard security perimeter around an Army barge flotilla on the waters of the Cumberland River from mile 108.5 to 0.0, the Ohio River mile 923.0 to 981.0, the Lower Mississippi River mile 953.5 to 310.5, and the Red River mile 00.0 to 85.0. The United States Army is shipping military equipment onboard the barge flotilla commencing in Cumberland City, TN at 6 p.m. on September 20, 2001 and securing upon offloading at Alexandria, LA. The zone will be in effect during the flotilla's entire transit and while the flotilla is moored at Alexandria, LA with cargo on deck. This zone is needed to safeguard the Army shipment from sabotage or other subversive acts, accidents, or other causes of a similar nature. The protection of this Army shipment is a matter of national security. Therefore, the Coast Guard has determined it is necessary to prevent access into this zone in order to ensure this equipment safely reaches its destination. Entry into this zone will be prohibited unless authorized by the Eighth Guard District Commander's on-scene representative. The on-scene representative will be located on a Coast Guard vessel accompanying the flotilla and may be contacted on VHF channel 13 or 16.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this rule to be so minimal that a full regulatory evaluation is unnecessary. This regulation will only be in effect for a short period of time. The impacts on routine navigation are expected to be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The impact on small entities is expected to be minimal, as only short delays to vessel traffic will occur when the shipment meets other vessels along its route.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effect

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph 34(g), of Commandant Instruction M16475.1D, this rule is categorically excluded from further environmental documentation. A “Categorical Exclusion Determination” is available for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. A new § 165.T08-036 is added to read as follows:

§ 165.T08-036 Security Zone; Fort Campbell—DOD Barge Flotilla, Cumberland City, TN to Alexandria, LA.

(a) Location. The following area is a security zone: the waters 100 yards around the Army barge flotilla while in transit on the Cumberland River from mile 108.5 to 0.0, the Ohio River from mile 923.0 to 981.0, the Lower Mississippi River from mile 953.5 to 310.5, and the Red River from mile 00.0 to 85.0. The security zone remains in effect while the flotilla is moored in Alexandria, LA with cargo on deck.

(b) Effective date. This section is effective from 6 p.m. September 20, 2001 to 11:59 p.m. on September 30, 2001.

(c) Regulations.

(1) In accordance with the general regulations in § 165.33 of this part, entry within 100 yards of the Army flotilla is prohibited unless authorized by the Eighth Coast Guard District Commander's on-scene representative.

(2) No vessels may enter this security zone unless specifically authorized by the Eighth Coast Guard District Commander's on-scene representative. Vessels shall contact the on-scene representative on channel 13 or 16 for closure information and passing instructions. The Eighth Coast Guard District Commander will notify the public of changes in the status of this zone by Marine Radio Safety Broadcast on VHF Marine Band Radio, Channel 22 (157.1 MHz).

Dated: September 20, 2001.
R.J. Casto,
Rear Admiral, U. S. Coast Guard, Commander, Eighth Coast Guard District.

[FR Doc. 01-24535 Filed 10-1-01; 8:45 am]

BILLING CODE 4910-15-U